DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The Nursing Scholarship Program (NSP) Application—NEW

The NSP will provide scholarships to eligible individuals for attendance at schools of nursing in exchange for a commitment from the individuals to serve as nurses for a period of not less than two years at a health care facility with a critical shortage of nurses. An “eligible individual” is defined as someone who is enrolled or accepted for enrollment as a full-time or part-time student in a school of nursing. The Secretary shall give preference to qualified applicants with the greatest financial need. Participating schools will be responsible for determining eligible students and submitting information to the Federal Government.

The estimate of burden for the form is as follows:

Form and number | Number of respondents | × | Responses per respondent | = | Total responses | × | Hours per responses | = | Total burden hours
Nursing Scholarship Program Application | 1,500 |  | 1 |  | 1,500 |  | 3 |  | 4,500

Send comments to Susan G. Queen, Ph.D., HRSA Reports Clearance Officer, Room 14-45, Parklawn Building, 5600 Fishers Lane, Rockville, MD 20857. Written comments should be received within 60 days of this notice.

Dated: February 5, 2003.
Jane M. Harrison,
Director, Division of Policy Review and Coordination.

[FR Doc. 03-3429 Filed 2-11-03; 8:45 am]

BILLING CODE 4165-15-P